DEPARTMENT OF COMMERCE

International Trade Administration

[C-570-913]

Certain New Pneumatic Off-the-Road Tires From the People's Republic of China: Partial Rescission of Countervailing Duty Administrative Review

AGENCY: Import Administration, International Trade Administration, Department of Commerce.

SUMMARY: The Department of Commerce (the Department) is rescinding, in part, the administrative review of the countervailing duty order on Certain New Pneumatic Off-the-Road Tires (OTR Tires) from the People's Republic of China (PRC) for the period December 17, 2007 through December 31, 2008, with respect to the following six companies:

1. Aeolus Tyre Co. Ltd. (Aeolus)

2. Guizhou Tire Co. Ltd. (GTC)

3. Jiangsu Feichi Co., Ltd. (Feichi)

4. Shandong Huitong Tyre Co., Ltd. (Huitong)

5. Tianjin Wanda Tyre Co., Ltd. (Wanda)

6. Triangle Tyre Co., Ltd. (Triangle).

This partial rescission is based on GPX International Tire Corporation's (GPX) withdrawal of its request for a review.

DATES: Effective Date: January 6, 2010.

FOR FURTHER INFORMATION CONTACT: Andrew Huston, AD/CVD Operations, Office 6, Import Administration, International Trade Administration, Department of Commerce, 14th Street and Constitution Avenue, NW., Washington, DC 20230; telephone: (202) 482-4261.

SUPPLEMENTARY INFORMATION:

Background

The Department published a notice of opportunity to request an administrative review of the countervailing duty order on OTR Tires from the PRC. See Antidumping or Countervailing Duty Order, Finding, or Suspended Investigation; Opportunity To Request Administrative Review, 74 FR 45179 (September 1, 2009). GPX timely requested an administrative review of the countervailing duty order on OTR Tires from the PRC for the period December 17, 2007 through December 31, 2008.

In accordance with section 751(a)(1) of the Tariff Act of 1930, as amended, (the Act) and 19 CFR 351.221(c)(1)(i), the Department published a notice initiating an administrative review of the countervailing duty order. See Initiation of Antidumping and Countervailing Duty Administrative Reviews and Requests for Revocation in Part, 74 FR 54956 (October 26, 2009).

Rescission, in Part, of Countervailing Duty Administrative Review

The Department's regulations provide that the Department will rescind an administrative review if the party that requested the review withdraws its request for review within 90 days of the date of publication of the notice of initiation. See 19 CFR 351.213(d)(1). GPX, the only party to request a review of Aeolus, GTC, Feichi, Huitong, Wanda and Triangle, timely withdrew its request for a review within the 90-day deadline. Therefore, in accordance with 19 CFR 351.213(d)(1), the Department is rescinding this administrative review of the countervailing duty order with respect to these six companies. This administrative review will continue with respect to Hebei Starbright Tire Co., Ltd., Hanghzou Zhongce Rubber Co., Ltd. and Tianjin United Tire & Rubber International Co.

Assessment

The Department will instruct U.S. Customs and Border Protection (CBP) to assess countervailing duties on all appropriate entries. For Aeolus, GTC, Feichi, Huitong, Wanda and Triangle, countervailing duties shall be assessed, if applicable, at rates equal to the cash deposit or bonding rate of the estimated countervailing duties required at the time of entry, or withdrawal from warehouse, for consumption, in accordance with 19 CFR 351.212(c)(1)(i). The Department intends to issue appropriate assessment instructions directly to CBP 15 days after publication of this notice.

Notification Regarding Administrative Protective Order

This notice serves as a final reminder to parties subject to administrative protective orders (APO) of their responsibility concerning the disposition of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: December 30, 2009.
Susan H. Kuhbach,
Acting Deputy Assistant Secretary for Antidumping and Countervailing Duty Operations.

[FR Doc. E9-31416 Filed 1-5-10; 8:45 am]

BILLING CODE 3510-DS-P